FEDERAL COMMUNICATIONS COMMISSION

47 CFR Part 25

[GN Docket No. 14-177; FCC 16-89]

Use of Spectrum Bands Above 24 GHz for Mobile Radio Services

AGENCY: Federal Communications Commission.

ACTION: Final rule; announcement of effective date.

SUMMARY: In this document, the Federal Communications Commission (Commission) announces that the Office of Management and Budget (OMB) has approved, for a period of three years, the information collection requirements associated with the Commission's Report and Order, GN Docket No. 14-177, FCC 16-89. This document is consistent with the Report and Order, which stated that the Commission would publish a document in the Federal Register announcing OMB approval and the effective date of the requirements.

DATES: 47 CFR 25.136, published at 81 FR 79894, November 14, 2016, is effective on June 1, 2017.

FOR FURTHER INFORMATION CONTACT: For additional information, contact Cathy Williams, Cathy.Williams@fcc.gov,(202) 418-2918.

SUPPLEMENTARY INFORMATION: This document announces that, on May 22, 2017, OMB approved the information collection requirements contained in the Commission's Report and Order, FCC 16-89, published at 81 FR 79894, November 14, 2016. The OMB Control Number is 3060-1215. The Commission publishes this document as an announcement of the effective date of the requirements.

Synopsis

As required by the Paperwork Reduction Act of 1995 (44 U.S.C. 3507), the FCC is notifying the public that it received OMB approval on May 22, 2017, for the information collection requirements contained in the Commission's rules.

No person shall be subject to any penalty for failing to comply with a collection of information subject to the Paperwork Reduction Act that does not display a current, valid OMB Control Number. The OMB Control Numbers is 3060-1215.

The foregoing notice is required by the Paperwork Reduction Act of 1995, Public Law 104-13, October 1, 1995, and 44 U.S.C. 3507.

The total annual reporting burdens and costs for the respondents are as follows:

OMB Control Number: 3060-1215.

OMB Approval Date: May 22, 2017.

OMB Expiration Date: May 31, 2020.

Title: Use of Spectrum Bands Above 24 GHz for Mobile Radio Services.

Form Number: Not applicable.

Respondents: Business or other for-profit entities, state, local, or tribal government and not for profit institutions.

Number of Respondents and Responses: 230 respondents; 230 responses.

Estimated Time per Response: 0.25-10 hours.

Frequency of Response: On occasion reporting requirement; at end of license term, or 2024 for incumbent licensees, one time reporting requirement.

Obligation to Respond: Required to obtain or retain benefits. The statutory authority for this collection is contained in sections 1, 2, 3, 4, 5, 7, 10, 201, 225, 227, 301, 302, 302a, 303, 304, 307, 309, 310, 316, 319, 332, and 336 of the Communications Act of 1934, 47 U.S.C. 151, 152, 153, 154, 155, 157, 160, 201, 225, 227, 301, 302, 302a, 303, 304, 307, 309, 310, 316, 319, 332, 336, Section 706 of the Telecommunications Act of 1996, as amended, 47 U.S.C. 1302.

Total Annual Burden: 278 hours.

Annual Cost Burden: $196,875.

Privacy Act Impact Assessment: No impact(s).

Nature and Extent of Confidentiality: There is no need for confidentiality with this collection of information. The information to be collected will be made available for public inspection. Applicants may request materials or information submitted to the Commission be given confidential treatment under 47 CFR 0.459 of the Commission's rules.

Needs and Uses: The FCC adopted Use of Spectrum Bands Above 24 GHz for Mobile Radio Services in a Report and Order (R&O, Docket No. 14-177, FCC 16-89, on July 14, 2016, published in 81 FR 79894 on November 14, 2016. In this R&O, the Commission adopted service rules for licensing of mobile and other uses for millimeter wave (mmW) bands. This R&O will help facilitate Fifth Generation mobile services and other mobile services. In developing service rules for mmW bands, the Commission will facilitate access to spectrum, develop a flexible spectrum policy, and encourage wireless innovation. OMB also approved information collection requirements contained in this collection under 47 CFR 30.3, 30.105 and 30.107.

Federal Communications Commission.
Marlene H. Dortch,
Secretary, Office of the Secretary.

[FR Doc. 2017-11335 Filed 5-31-17; 8:45 am]

BILLING CODE 6712-01-P